DEPARTMENT OF HOUSING AND URBAN DEVELOPMENT

[Docket No. FR-6377-N-01]

Exhibitors Sought for Innovative Housing Showcase

AGENCY: Office of the Assistant Secretary for Policy Development and Research, Department of Housing and Urban Development (HUD).

ACTION: Notice.

SUMMARY: HUD, in collaboration with other organizations, will present the Innovative Housing Showcase in June 2023 on the National Mall in Washington, DC. The Innovative Housing Showcase (Showcase) is a public event to raise awareness of innovative housing designs and technologies that have the potential to increase housing supply, lower the cost of construction, and/or reduce housing expenses for owners and renters. HUD is especially interested in innovative housing designs and technologies that, in addition to reducing costs and expenses for builders, owners and renters, can expand affordable, accessible, and healthy housing options for low- and moderate-income households; support aging in place; improve climate mitigation and resilience and disaster recovery; and/or increase energy efficiency and support decarbonization in the housing sector. HUD is seeking exhibitors to showcase innovations, and this notice solicits affirmations of interest from parties that would like to be considered for participation in the Innovative Housing Showcase.

DATES: All affirmations of interest must be received no later than March 15, 2023.

ADDRESSES: Affirmations of interest must be in writing and submitted via email to housingshowcase@hud.gov. Individuals who do not have internet access may submit affirmations of interest to the Office of Policy Development and Research, Affordable Housing Research and Technology, U.S. Department of Housing and Urban Development, 451 7th Street SW, Room 8134, Washington, DC 20410.

FOR FURTHER INFORMATION CONTACT: Michael Blanford, Research Engineer, U.S. Department of Housing and Urban Development, Office of Policy Development and Research, 451 7th St SW, Washington, DC 20410, telephone number 202-402-5728 (this is not a toll-free number). HUD welcomes and is prepared to receive calls from individuals who are deaf or hard of hearing, as well as individuals with speech and communication disabilities. To learn more about how to make an accessible telephone call, please visit: https://www.fcc.gov/consumers/guides/telecommunications-relay-service-trs. Individuals with questions may also email housingshowcase@hud.gov and in the subject line write “2023 Showcase Questions.”

SUPPLEMENTARY INFORMATION:

I. Background

This year will be the third time HUD has hosted the Showcase on the National Mall, having done so in 2019 and 2022. Prior Showcases were attended by several thousand members of the public, as well as housing practitioners and government leaders, and received coverage in both popular media and trade press. Given HUD's mission to create “quality, affordable homes for all,” this event offers a unique opportunity to highlight innovative housing designs and technologies that can improve quality and deepen affordability for leaders in the housing sector, from policymakers and planners to funders, architects and builders.

The National Mall is a landscaped Park that is always open to the public, which brings certain expectations when presenting housing innovations on a large scale. Exhibitors are responsible for complying with all National Park Service rules and regulations as identified in the NPS Event Planning Guide (https://www.nps.gov/nama/learn/management/event-planning-guide.htm). As the National Mall is part of the National Park System, there is no review or permit required to meet building codes within the District of Columbia; however, the NPS may require a review for Fire and Life Safety Requirements by NPS representatives.

Approach to the National Mall involves DC streets or interstate highways, local and federal restrictions pertaining to weight, and compliance with width of load and height restrictions. There are two primary DC routes approaching the National Mall that can accommodate 13′6″ clearance. Showcase Management will advance the arrival and departure routes as well as the set-up and tear-down schedule to each exhibitor.

II. Showcase Information and Exhibit Requirements

Showcase management is overseen by HUD and HUD-designated entities responsible for Showcase planning and event logistics. The Innovative Housing Showcase host exhibits in three primary categories:

• Tabletop Displays—these displays are typically housed in an individual tent or space within a larger tent.

• On-Ground Exhibit—these displays may showcase a particular technology or method of construction within the given footprint that is too large for a tabletop and cannot be entered.

• Enterable Exhibit—these displays may involve a structure that showcases a technology or method of construction that can be entered by the public present at the showcase site.

Each exhibit should be positioned and equipped to allow persons who have mobility restrictions to approach the threshold of an enterable exhibit. Showcase Management will provide a list of contractors that are prepared to provide ADA compliant ramps for Enterable exhibits.

The Showcase Management will review the public facing branding of each exhibit and can provide advice and direction to remain compliant with the NPS guidelines.

Exhibits must be presented in a manner that can sustain a 30-mph wind and should not exceed 45′ in height. HUD will make available the use of a crane or forklifts for installation. Typically, the crane provided has a 20-ton capacity and will be apportioned to accommodate the needs of all exhibitors. Exhibits that exceed 400 sq ft will require the NPS review of floor plans and engineering to establish an occupancy load as well as any ballast that may be required to satisfy the wind load guidelines.

To maintain adequate pathways for the public to traverse between monuments and museums that are adjacent to the event site, exhibit areas are apportioned based on individual footprints that do not exceed 30′ in depth and are generally 60′ to 80′ in width. Exhibits will be delivered by truck and placed on the gravel walkways of the National Mall. The National Mall, also considered “America's Front Yard,” is managed by the National Park Service (NPS) and the NPS has requirements for events to protect the public and the Mall. Exhibitors shall comply with all NPS rules and requirements.

For each exhibit type, HUD provides a standard tent with side walls, tables, and chairs as well as a sign identifying the Exhibitor. The sign includes the exhibitor's brand and features the event brand consistent with the NPS guidelines. Showcase Management will also provide electricity for each exhibit whether Tabletop, On-Ground or Enterable.

Exhibitors are responsible for their own expenses, personnel, and resources. Exhibitors will bear the cost to manufacture the exhibit, deliver and remove the exhibit from the Showcase Site, and staff the exhibit during the run of show. HUD will not provide any funding to exhibitors. HUD will provide support to manage the event.

III. Affirmations of Interest of Potential Exhibitors

HUD is interested in housing designs and technologies that have the potential to increase supply and, lower the cost of construction, and/or reduce housing expenses for owners and renters. This could include designs that reduce building footprints, like Accessory Dwelling Units and multi-unit manufactured and modular housing, or that impact on-site construction efficiency, like three dimensional (3D) printing and panelization. HUD is especially interested in innovative housing designs and technologies that, in addition to reducing costs and expenses for builders, owners and renters, can expand affordable, accessible and healthy housing options for low- and moderate-income households; support aging in place; improve climate mitigation and resilience and disaster recovery; and/or increase energy efficiency and support decarbonization in the housing sector. Potential exhibits could range from tabletop displays to on-ground exhibits to enterable homes.

Interested potential exhibitors should submit via the methods discussed previously in this notice an affirmation of interest containing the following information: the name and contact information for the organization and a statement that the organization is interested in participating as a potential exhibitor in the Showcase.

HUD will select exhibitors that align with the above themes and areas of focus, particularly affordability, as well as other considerations such as novelty, housing quality, and overall composition. For the sake of visitor engagement, HUD will prioritize exhibits that can be displayed in person or through visually interesting presentations. Other factors that may impact exhibitor selection include National Mall site limitations and potential expense to HUD (e.g., crane time).

Solomon J. Greene,
Principal Deputy Assistant Secretary for Policy Development and Research.

[FR Doc. 2023-03269 Filed 2-15-23; 8:45 am]

BILLING CODE P